DEPARTMENT OF TRANSPORTATION

Federal Highway Administration

Environmental impact statement: Gaston and Mecklenburg Counties, NC

AGENCY: Federal Highway Administration (FHWA), DOT.

ACTION: Notice of intent.

SUMMARY: The FHWA is issuing this notice to advise the public that an environmental impact statement will be prepared for a proposed highway project in Gaston and Mecklenburg Counties, North Carolina.

FOR FURTHER INFORMATION CONTACT: Clarence W. Coleman, P.E., Operations Engineer, Federal Highway Administration, 310 New Bern Avenue, Ste 410, Raleigh, North Carolina 27601-1418, Telephone: (919) 856-4346.

SUPPLEMENTARY INFORMATION: The FHWA, in cooperation with the North Carolina Department of Transportation (NCDOT) and the North Carolina Turnpike Authority (NCTA), will prepare an environmental impact statement (EIS) addressing proposed improvements to east-west transporation mobility in the area around the City of Gastonia and other municipalities in southern Gaston County. As part of this proposed action, the NCDOT also proposes to improve mobility, access and connectivity between southern Gaston County and Mecklenburg County. The proposed project study area consists of the following general boundaries: I-85 to the north, the South Carolina State line to the south, the Charlotte-Douglas International Airport to the east, and the I-85 and US 29-74 junction to the west. The proposed action is consistent with the thoroughfare plans approved by the Gaston Urban Area Metropolitan Planning Organization (MPO) and the Mecklenburg-Union MPO.

Alternatives to be studied in detail include:

1. No-Build.

2. Construction of a new location highway. Sixteen detailed study alternatives or corridors will be studied in the Draft EIS.

The proposed project is being developed as a candidate toll road. Accordingly, in conjunction with development of the Draft Environmental Impact Statement and other on-going project development activities, NCTA is conducting a study to evaluate the feasibility of developing the proposed highway as a toll road and funding it, in whole or in part, through the issuance of “revenue bonds.”

Letters describing the proposed action and soliciting comments have been sent to appropriate Federal, State and local agencies. Citizens' informational workshops, meetings with local officials, and a public hearing will be held. Information on the dates, times and locations of the citizens' informtional workshops and public hearings will be advertised in the local news media, and newsletters will be mailed to those on the project mailing list. The Draft EIS will be available for public and agency review and comment prior to the public hearing.

To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive order 12372 regarding intergovernmental consultation on Federal programs and activities apply to this program.)

Issued on: April 20, 2006.
Clarence W. Coleman,
Operations Engineer, Raleigh, North Carolina.

[FR Doc. 06-3949 Filed 4-26-06; 8:45am]

BILLING CODE 4910-22-M